DEPARTMENT OF COMMERCE

National Institute of Standards and Technology

Request for Nominations for Members To Serve on National Institute of Standards and Technology and National Technical Information Service Federal Advisory Committees

AGENCY: National Institute of Standards and Technology, Department of Commerce.

ACTION: Notice.

SUMMARY: The National Institute of Standards and Technology (NIST or Institute) and the National Technical Information Service (NTIS) invite and request nomination of individuals for appointment to eleven existing Federal Advisory Committees (Committees): Advisory Committee on Earthquake Hazards Reduction; Board of Overseers of the Malcolm Baldrige National Quality Award; Industrial Advisory Committee; Information Security and Privacy Advisory Board; Internet of Things Advisory Board; Judges Panel of the Malcolm Baldrige National Quality Award; Manufacturing Extension Partnership Advisory Board; National Artificial Intelligence Advisory Committee; National Construction Safety Team Advisory Committee; National Technical Information Service Advisory Board; and Visiting Committee on Advanced Technology. NIST and

NTIS will consider nominations received in response to this notice for appointment to the Committees, in addition to nominations already received. Registered Federal lobbyists may not serve on NIST or NTIS Federal Advisory Committees in an individual capacity.

DATES: Nominations for all Committees will be accepted on an ongoing basis and will be considered as and when vacancies arise.

ADDRESSES: See below.

SUPPLEMENTARY INFORMATION:

Advisory Committee on Earthquake Hazards Reduction (ACEHR)

Address: Please submit nominations to Tina Faecke via email at tina.faecke@nist.gov. Nominations may also be mailed to Tina Faecke, Designated Federal Officer, National Earthquake Hazards Reduction Program, NIST, 100 Bureau Drive, Mail Stop 8604, Gaithersburg, MD 20899-8604. Additional information regarding the ACEHR, including its charter and current members may be found on its electronic home page at https://nehrp.gov/committees/index.htm.

Contact Information: John “Jay” Harris, Acting Director, National Earthquake Hazards Reduction Program, NIST, 100 Bureau Drive, Mail Stop 8604, Gaithersburg, MD 20899-8604, telephone 301-975-6538 or via email at john.harris@nist.gov.

Committee Information

The Advisory Committee on Earthquake Hazards Reduction (Committee) was established in accordance with the National Earthquake Hazards Reduction Program Reauthorization Act of 2004, Public Law 108-360 (42 U.S.C. 7704(a)(5)) and the Federal Advisory Committee Act, 5 U.S.C. 1001 et seq.

Objectives and Duties

1. The Committee will act in the public interest to assess trends and developments in the science and engineering of earthquake hazards reduction; effectiveness of the National Earthquake Hazards Reduction Program (Program) in carrying out the activities under section (a)(2) of the Earthquake Hazards Reduction Act of 1977, as amended (42 U.S.C. 7704(a)(2)); the need to revise the Program; and the management, coordination, implementation, and activities of the Program.

2. The Committee will function solely as an advisory body, in accordance with the provisions of the Federal Advisory Committee Act.

3. The Committee shall report to the Director of NIST.

4. The Committee shall report to the Director of NIST at least once every two years on its findings of the assessments and its recommendations for ways to improve the Program. In developing recommendations, the Committee shall consider the recommendations of the United States Geological Survey (USGS) Scientific Earthquake Studies Advisory Committee (SESAC).

Membership

1. The Committee shall consist of not fewer than 11, nor more than 17 members. Members shall reflect the wide diversity of technical disciplines, competencies, and communities involved in earthquake hazards reduction. Members shall be selected on the basis of established records of distinguished service in their professional community and their knowledge of issues affecting the National Earthquake Hazards Reduction Program.

2. The Director of NIST shall appoint the members of the Committee. Members shall be selected on a clear, standardized basis, in accordance with applicable Department of Commerce guidance.

3. The term of office of each member of the Committee shall be three years, except that vacancy appointments shall be for the remainder of the unexpired term of the vacancy and that members shall have staggered terms such that the Committee will have approximately one-third new or reappointed members each year.

Miscellaneous

1. Members of the Committee shall not be compensated for their services, but may, upon request, be allowed travel and per diem expenses in accordance with 5 U.S.C. 5701 et seq., while attending meetings of the Committee or subcommittees thereof, or while otherwise performing duties at the request of the Chairperson, while away from their homes or regular places of business.

2. Members of the Committee shall serve as Special Government Employees (SGEs) and will be subject to the ethics standards applicable to SGEs and are required to file an annual Executive Branch Confidential Financial Disclosure Report.

3. The Committee members shall meet face-to-face at least once per year. Additional meetings may be called whenever requested by the NIST Director; such meetings may be in the form of telephone conference calls and/or videoconferences.

4. Committee meetings are open to the public.

Nomination Information

1. Members will be drawn from industry and other communities having an interest in the Program, such as, but not limited to, research and academic institutions, industry standards development organizations, state and local government, and financial communities, who are qualified to provide advice on earthquake hazards reduction and represent all related scientific, architectural, and engineering disciplines.

2. Any person who has completed two consecutive full terms of service on the Committee shall be ineligible for appointment for a third term during the two-year period following the expiration of the second term.

3. Nominees should have established records of distinguished service. The field of expertise that the candidate represents should be specified in the nomination letter. A summary of the candidate's qualifications should be included with the nomination, including (where applicable) current or former service on Federal advisory boards and Federal employment.

4. The Department of Commerce is committed to equal opportunity in the workplace and seeks a broad based and diverse Committee membership.

Board of Overseers of the Malcolm Baldrige National Quality Award

Address: Please submit nominations to Robert Fangmeyer, Director, Baldrige Performance Excellence Program, NIST, 100 Bureau Drive, Mail Stop 1020, Gaithersburg, MD 20899-1020. Nominations may also be submitted via email to Robert.Fangmeyer@nist.gov. Additional information regarding the Committee, including its charter, current membership list, and executive summary, may be found at http://www.nist.gov/baldrige/community/overseers.cfm.

Contact Information: Robyn Verner, Designated Federal Officer, Baldrige Performance Excellence Program, NIST, 100 Bureau Drive, Mail Stop 1020, Gaithersburg, MD 20899-1020; telephone 301-975-2361 or via email at Robyn.Verner@nist.gov.

Committee Information

The Board of Overseers of the Malcolm Baldrige National Quality Award (Board) was established in accordance with 15 U.S.C. 3711a(d)(2)(B), pursuant the Federal Advisory Committee Act, 5 U.S.C. 1001 et seq.

Objectives and Duties

1. The Board shall review the work of the private sector contractor(s), which assists the Director of NIST in administering the Malcolm Baldrige National Quality Award (Award). The Board will make such suggestions for the improvement of the Award process as it deems necessary.

2. The Board shall make an annual report on the results of Award activities to the Director of NIST, along with its recommendations for the improvement of the Award process.

3. The Board will function solely as an advisory committee under the Federal Advisory Committee Act, 5 U.S.C. 1001 et seq.

4. The Board will report to the Director of NIST.

Membership

1. The Board will consist of at least five and approximately 12 members selected on a clear, standardized basis, in accordance with applicable Department of Commerce guidance, and for their preeminence in the field of organizational performance excellence. There will be a balanced representation from U.S. service, manufacturing, nonprofit, education, and health care industries. The Board will include members familiar with the quality, performance improvement operations, and competitiveness issues of manufacturing companies, service companies, nonprofits, health care providers, and educational institutions.

2. Board members will be appointed by the Secretary of Commerce for three-year terms and will serve at the discretion of the Secretary. All terms will commence on March 1 and end on the last day of February of the appropriate years.

Miscellaneous

1. Members of the Board shall serve without compensation, but may, upon request, be reimbursed travel expenses, including per diem, as authorized by 5 U.S.C. 5701 et seq.

2. The Board will meet at least annually, but usually two times a year. Additional meetings may be called as deemed necessary by the NIST Director.

3. Board meetings are open to the public. Board members do not have access to classified or proprietary information in connection with their Board duties.

Nomination Information

1. Nominations are sought from the private and public sector as described above.

2. Nominees should have established records of distinguished service and shall be familiar with the quality improvement operations and competitiveness issues of manufacturing companies, service companies, educational institutions, health care providers, and nonprofit organizations. The relevant expertise of the candidate should be specified in the nomination letter. A summary of the candidate's qualifications should be included with the nomination, including (where applicable) current or former service on Federal advisory boards and Federal employment. Besides participation at meetings, it is desired that members be able to devote the equivalent of seven days between meetings to either developing or researching topics of potential interest, and so forth, in furtherance of their Board duties.

3. The Department of Commerce is committed to equal opportunity in the workplace and seeks a broad-based and diverse Board membership.

Industrial Advisory Committee

Address: Please submit nominations to Tamiko Ford, Designated Federal Officer, National Institute of Standards and Technology, 100 Bureau Drive, MS 1000, Gaithersburg, MD 20899. Nominations may also be submitted via email to Tamiko.Ford@nist.gov. Additional information regarding the Committee, including its charter, current membership list, and executive summary, may be found at https://www.nist.gov/adiis/industrial-advisory-committee.

Contact Information: Tamiko Ford, Designated Federal Officer, National Institute of Standards and Technology, 100 Bureau Drive, MS 1000, Gaithersburg, MD 20899. Nominations may also be submitted via email to Tamiko.Ford@nist.gov.

Committee Information

The Secretary of Commerce (Secretary), in consultation with the Secretary of Defense, the Secretary of Energy, and the Secretary of Homeland Security, established the Industrial Advisory Committee (the Committee) in accordance with the Federal Advisory Committee Act, 5 U.S.C. 1001 et seq., and the William M. (Mac) Thornberry National Defense Authorization Act for Fiscal Year 2021 (Act), Public Law 116-283, 9906(b). The Committee shall assess and provide guidance to the Secretary, through the National Institute for Standards and Technology (NIST), on matters relating to microelectronics research, development, manufacturing, and policy.

Objectives and Duties

1. The Committee shall act in the public interest to provide advice to the Secretary of Commerce through the National Institute of Standards and Technology (NIST) on matters relating to microelectronics research, development, manufacturing, and policy.

2. The Committee will function solely as an advisory body, in accordance with the provisions of FACA. The Committee shall assess and provide guidance to the Secretary of Commerce, through NIST, on—

a. science and technology needs of the nation's domestic microelectronics industry;

b. the extent to which the strategy developed under section 9906(a)(3) of the Act is helping maintain United States leadership in microelectronics manufacturing;

c. assessment of the research and development programs and activities authorized under section 9906 of the Act; and

d. opportunities for new public-private partnerships to advance microelectronics research, development, and domestic manufacturing.

The Committee shall not participate in selecting recipients of Federal financial assistance.

Membership

Members of the Committee shall be appointed by the Secretary of Commerce. The Committee shall be composed of not fewer than 12 members who are qualified to provide advice to the United States Government on matters relating to microelectronics research, development, manufacturing, and policy. The membership shall be fairly balanced among representatives of the semiconductor industry, representatives of Federal laboratories and academia, and other members. Members of the Committee shall serve as representative members or as regular government employee (RGE) members.

Miscellaneous

1. The Committee members serve three-year terms and may serve two consecutive terms at the discretion of the Secretary, except that vacancy appointments shall be for the remainder of the unexpired term of the vacancy and that members shall have staggered terms such that the Committee will have approximately one-third new or reappointed members each year. Members who are not able to fulfill the duties and responsibilities of the Committee will have their membership terminated. A member who has served two consecutive full terms is ineligible to serve a third term for a period of one year following the expiration of the second term. Vacancies are filled as soon as highly qualified candidates in needed areas are identified and available to serve.

2. The Secretary of Commerce shall appoint the Committee Chair and Vice-Chair from among the Committee membership. The tenures of the Chair and Vice-Chair shall be two years and can be modified at the discretion of the Secretary. The Vice-Chair shall perform the duties of the Chair in his or her absence. In case a vacancy occurs in the position of the Chair or Vice-Chair, the Secretary shall select a member to fill such a vacancy; the Vice-Chair will succeed the Chair in the interim until the Secretary's appointment of a member to fill the Chair's vacancy.

3. Committee members will be reimbursed for travel and per diem as it pertains to official business of the Committee in accordance with 5 U.S.C. 5701 et seq. Committee members will serve without compensation, except that Federal Government employees who are members of the Committee shall remain covered by their compensation system pursuant to 41 CFR 102-3.130(h).

4. Members shall not reference or otherwise utilize their membership on the Committee in connection with public statements made in their personal capacities without a disclaimer that the views expressed are their own and do not represent the views of the Committee, NIST, or the Department of Commerce.

5. NIST, when necessary and consistent with the Committee's mission and Departmental policies and procedures, may establish subcommittees, task forces, and working groups, drawn in whole or in part from the Committee, pursuant to the provisions of FACA, the FACA implementing regulations, and applicable Departmental guidance. The Department of Commerce requires that each subcommittee include at least one member of the Committee. Subcommittees must report back to the Committee and must not provide advice or work products directly to NIST or the Secretary, and any recommendations based on their work will be deliberated and adopted by the Committee prior to dissemination

Nomination Information

NIST uses a nomination process to identify candidates for the Committee. Nominations are requested through annual announcements in the Federal Register and through solicitations to NIST, the Department of Commerce, the Department of Defense, the Department of Energy, the Department of Homeland Security, the National Academies, professional societies, business associations, labor associations, and other appropriate organizations and individuals in order to ensure a diverse pool of applicants. Candidates may be nominated by their peers or may self-nominate. NIST requests that the nomination includes a resume or biographical sketch that specifically identifies the qualifications of the individual being nominated. Qualifications considered may include, among others: scientific and technical knowledge in selected areas and professional experience. The Director of NIST recommends one or more candidates for further review to fill vacancies on the Committee on the basis of the qualifications, the sectors the candidates may represent and the existing representation on the Committee, and the other balance factors. This further review is to ensure compliance with Federal governance requirements, including compliance with the Committee's charter and membership balance plan. The Secretary of Commerce makes the final decision for appointment to the Committee.

Information Security and Privacy Advisory Board (ISPAB)

Address: Please submit nominations to Jeffrey Brewer, NIST, 100 Bureau Drive, Mail Stop 8930, Gaithersburg, MD 20899-8930. Nominations may also be submitted via email at Jeffrey.Brewer@nist.gov, Attn: ISPAB Nominations. Additional information regarding the ISPAB, including its charter and current membership list, may be found on its electronic home page at http://csrc.nist.gov/groups/SMA/ispab/index.html.

Contact Information: Jeffrey Brewer, ISPAB Designated Federal Officer (DFO), NIST, 100 Bureau Drive, Mail Stop 8930, Gaithersburg, MD 20899-8930; telephone 301-975-2489; or via email at Jeffrey.Brewer@nist.gov.

Committee Information

The ISPAB (Committee or Board) was originally chartered as the Computer System Security and Privacy Advisory Board by the Department of Commerce pursuant to the Computer Security Act of 1987 (Pub. L. 100-235). The E-Government Act of 2002 (Pub. L. 107-347, Title III), amended section 21 of the National Institute of Standards and Technology Act (15 U.S.C. 278g-4), including changing the Committee's name, and the charter was amended accordingly.

Objectives and Duties

1. The Board will identify emerging managerial, technical, administrative, and physical safeguard issues relative to information security and privacy.

2. The Board will advise NIST, the Secretary of Homeland Security, and the Director of the Office of Management and Budget (OMB) on information security and privacy issues pertaining to Federal Government information systems, including through review of proposed standards and guidelines developed by NIST.

3. The Board shall report to the Director of NIST.

4. The Board reports annually to the Secretary of Commerce, the Secretary of Homeland Security, the Director of OMB, the Director of the National Security Agency, and the appropriate committees of the Congress.

5. The Board will function solely as an advisory body, in accordance with the provisions of the Federal Advisory Committee Act, 5 U.S.C. 1001 et seq.

Membership

1. The Director of NIST will appoint the Chairperson and the members of the ISPAB, and members serve at the discretion of the NIST Director. Members will be selected on a clear, standardized basis, in accordance with applicable Department of Commerce guidance.

2. The ISPAB will consist of a total of 12 members and a Chairperson, for a total of 13.

• The Board will include four members from outside the Federal Government who are eminent in the information technology industry, at least one of whom is representative of small or medium sized companies in such industries.

• The Board will include four members from outside the Federal Government who are eminent in the fields of information technology, or related disciplines, but who are not employed by or representative of a producer of information technology.

• The Board will include four members from the Federal Government who have information system management experience, including experience in information security and privacy, at least one of whom shall be from the National Security Agency.

Miscellaneous

1. Members of the Board, other than full-time employees of the Federal Government, will not be compensated for their services, but will, upon request, be allowed travel expenses pursuant to 5 U.S.C. 5701 et seq., while otherwise performing duties at the request of the Board Chairperson, while away from their homes or a regular place of business.

2. Meetings of the ISPAB are usually two to three days in duration and are usually held quarterly. ISPAB meetings are open to the public, including the press. Members do not have access to classified or proprietary information in connection with their ISPAB duties.

Nomination Information

1. Nominations are being accepted in all three categories described above.

2. Nominees should have specific experience related to information security or privacy issues, particularly as they pertain to Federal information technology. Letters of nomination should include the category of membership for which the candidate is applying and a summary of the candidate's qualifications for that specific category. Also include (where applicable) current or former service on Federal advisory boards and any Federal employment. Each nomination letter should state that the person agrees to the nomination, acknowledges the responsibilities of serving on the ISPAB, and that they will actively participate in good faith in the tasks of the ISPAB.

3. Besides participation at meetings, it is desired that members be able to devote a minimum of two days between meetings to developing draft issue papers, researching topics of potential interest, and so forth in furtherance of their ISPAB duties.

4. Selection of ISPAB members will not be limited to individuals who are nominated. Nominations that are received and meet the requirements will be kept on file to be reviewed as ISPAB vacancies occur.

5. The Department of Commerce is committed to equal opportunity in the workplace and seeks a broad-based and diverse ISPAB membership.

Internet of Things Advisory Board

Address: Please submit nominations to Barbara Cuthill, Designated Federal Officer, National Institute of Standards and Technology, 100 Bureau Drive, MS 2000, Gaithersburg, MD 20899. Nominations may also be submitted via email to barbara.cuthill@nist.gov.

Contact Information: Alison Kahn, Electronics Engineer, National Institute of Standards and Technology, 100 Bureau Drive, MS 2000, Gaithersburg, MD 20899. Her email is alison.kahn@nist.gov. Additional information regarding the Committee, including its charter, current membership list, and executive summary, may be found at https://www.nist.gov/itl/applied-cybersecurity/nist-cybersecurity-iot-program/internet-things-advisory-board.

Committee Information

The Secretary of Commerce (Secretary) established the Internet of Things Advisory Board (IoTAB) in accordance with the requirements of 9204(b)(5) of the William M. (Mac) Thornberry National Defense Authorization Act for Fiscal Year 2021 (Pub. L. 116-283), and in accordance with the Federal Advisory Committee Act, 5 U.S.C. 1001 et seq. The IoTAB shall provide advice to the Internet of Things Federal Working Group (IoTFWG) on matters related to the Internet of Things as specified below. The IoTAB shall submit to the IoTFWG a report that includes any findings or recommendations related to the specific scope below.

Objectives and Duties

The Board shall advise the Internet of Things Federal Working Group convened by the Secretary pursuant to section 9204(b)(1) of the Act on matters related to the Federal Working Group's activities, as specified below.

The Board shall advise the Federal Working Group with respect to—

a. the identification of any Federal regulations, statutes, grant practices, programs, budgetary or jurisdictional challenges, and other sector-specific policies that are inhibiting, or could inhibit, the development of the Internet of Things;

b. situations in which the use of the Internet of Things is likely to deliver significant and scalable economic and societal benefits to the United States, including benefits from or to—

i. smart traffic and transit technologies;

ii. augmented logistics and supply chains;

iii. sustainable infrastructure;

iv. precision agriculture;

v. environmental monitoring;

vi. public safety; and

vii. health care;

c. whether adequate spectrum is available to support the growing Internet of Things and what legal or regulatory barriers may exist to providing any spectrum needed in the future;

d. policies, programs, or multi-stakeholder activities that—

i. promote or are related to the privacy of individuals who use or are affected by the Internet of Things;

ii. may enhance the security of the Internet of Things, including the security of critical infrastructure;

iii. may protect users of the Internet of Things; and

iv. may encourage coordination among Federal agencies with jurisdiction over the Internet of Things;

e. the opportunities and challenges associated with the use of Internet of Things technology by small businesses; and

f. any international proceeding, international negotiation, or other international matter affecting the Internet of Things to which the United States is or should be a party.

The Board shall submit to the Internet of Things Federal Working Group a report that includes any of its findings or recommendations. The report will be administratively delivered to the Internet of Things Federal Working Group through the Director of the National Institute of Standards and Technology (NIST).

The Board shall set its own agenda in carrying out its duties. The Federal Working Group may suggest topics or items for the Board to study, and the Board shall take those suggestions into consideration in carrying out its duties.

The Board will function solely as an advisory body, in accordance with the provisions of FACA.

Membership

Members of the Board shall be appointed by the Secretary. The Board shall consist of 16 members representing a wide range of stakeholders outside of the Federal Government with expertise relating to the Internet of Things, including: (i) information and communications technology manufacturers, suppliers, service providers, and vendors; (ii) subject matter experts representing industrial sectors other than the technology sector that can benefit from the Internet of Things, including the transportation, energy, agriculture, and health care sectors; (iii) small, medium, and large businesses; (iv) think tanks and academia; (v) nonprofit organizations and consumer groups; (vi) security experts; (vii) rural stakeholders; and (viii) other stakeholders with relevant expertise, as determined by the Secretary.

The Board members shall serve terms of two years (unless the Board terminates earlier). Vacancies are filled as soon as highly qualified candidates in a needed area of stakeholder interest are identified and available to serve. Members of the Board shall serve as representative members. Full-time or permanent part-time Federal officers or employees will not be appointed to the Board. Members must be citizens of the United States of America.

Members of the Board shall not be compensated for their services. Members of the Board, while attending meetings of the Board away from their homes or regular place of business, may be allowed travel expenses, including per diem in lieu of subsistence, as authorized by section 5703 of Title 5, United States Code, for individuals intermittently serving in the Government without pay.

Members shall not reference or otherwise utilize their membership on the Board in connection with public statements made in their personal capacities without a disclaimer that the views expressed are their own and do not represent the views of the Board, the Federal Working Group, NIST, or the Department of Commerce.

The Secretary will appoint the Board's Chair from among the approved members in accordance with policies and procedures and, in doing so, shall determine the term of service for the Board's Chair.

Miscellaneous

Meetings will be conducted at least twice each year.

Nomination Information

NIST uses a nomination process to identify candidates for the Board. Nominations are requested through an announcement in the Federal Register and through solicitations through the Federal Working Group, NIST, the Department of Commerce, other Federal agencies, and organizations representing relevant businesses, consumers, communities, and economic sectors in order to ensure a robust and diverse pool of applicants. Candidates may be nominated by their peers or may self-nominate. NIST requests that the nomination includes a resume for the individual that specifically identifies the stakeholder interest of the individual being nominated. Qualifications considered may include, among others: education, professional experience, and scientific and technical expertise in selected areas. The Director of the Information Technology Laboratory (ITL) recommends candidates for further review to fill vacancies on the Board in the areas of needed stakeholder interest and on the basis of the qualifications, the sectors the candidates may represent and the existing representation on the Board, and other balance factors. The Director of ITL recommends nominees to the Director of NIST, who reviews the recommendation for submission to the Secretary of Commerce. Candidates for the Board are then reviewed by and appointed by the Secretary of Commerce.

The Board members shall serve terms of two years (unless the Board terminates earlier). Vacancies are filled as soon as highly qualified candidates in a needed area of stakeholder interest are identified and available to serve.

The Department of Commerce seeks a broad-based and diverse IoTAB membership.

Judges Panel of the Malcolm Baldrige National Quality Award

Address: Please submit nominations to Robert Fangmeyer, Director, Baldrige Performance Excellence Program, NIST, 100 Bureau Drive Mail Stop 1020, Gaithersburg, MD 20899-1020. Nominations may also be submitted via email Robert.Fangmeyer@nist.gov. Additional information regarding the Committee, including its charter, current membership list, and executive summary, may be found at https://www.nist.gov/baldrige/how-baldrige-works/baldrige-community/judges-panel.

Contact Information: Robyn Verner, Designated Federal Officer, Baldrige Performance Excellence Program, NIST, 100 Bureau Drive, Mail Stop 1020, Gaithersburg, MD 20899-1020; telephone 301-975-2361 or via email at Robyn.Verner@nist.gov.

Committee Information

The Judges Panel of the Malcolm Baldrige National Quality Award (Panel) was established in accordance with 15 U.S.C. 3711a(d)(1) and the Federal Advisory Committee Act, 5 U.S.C. 1001 et seq.

Objectives and Duties

1. The Panel will ensure the integrity of the Malcolm Baldrige National Quality Award (Award) selection process. Based on a review of results of examiners' scoring of written applications, Panel members will vote on which applicants' merit site visits by examiners to verify the accuracy of quality improvements claimed by applicants. The Panel will also review results and findings from site visits, and recommend Award recipients.

2. The Panel will ensure that individual judges will not participate in the review of applicants as to which they have any real or perceived conflict of interest.

3. The Panel will function solely as an advisory body, and will comply with the provisions of the Federal Advisory Committee Act, 5 U.S.C. 1001 et seq.

4. The Panel will report to the Director of NIST.

Membership

1. The Panel will consist of no less than 9, and not more than 12, members selected on a clear, standardized basis, in accordance with applicable Department of Commerce guidance. There will be a balanced representation from U.S. service, manufacturing, nonprofit, education, and health care industries. The Panel will include members familiar with the quality improvement operations and competitiveness issues of manufacturing companies, service companies, nonprofits, health care providers, and educational institutions.

2. Panel members will be appointed by the Secretary of Commerce for three-year terms and will serve at the discretion of the Secretary. All terms will commence on March 1 and end on the last day of February of the appropriate year.

3. Members who are not Federal employees will serve as Special Government Employees (SGEs) and will be subject to the ethical standards applicable to SGEs.

Miscellaneous

1. Members of the Panel shall serve without compensation, but may, upon request, be reimbursed travel expenses, including per diem, as authorized by 5 U.S.C. 5701 et seq.

2. The Panel will meet three times per year. Additional meetings may be called as deemed necessary by the NIST Director or by the Chairperson. Meetings are usually one to four days in duration. In addition, each Judge must attend an annual three-day Examiner training course.

3. When approved by the Department of Commerce Chief Financial Officer and Assistant Secretary for Administration, Panel meetings are closed or partially closed to the public.

Nomination Information

1. Nominations are sought from all U.S. service and manufacturing industries, education, health care, and nonprofits as described above.

2. Nominees should have established records of distinguished service and shall be familiar with the quality improvement operations and competitiveness issues of manufacturing companies, service companies, health care providers, educational institutions, and nonprofit organizations. The category (field of eminence) for which the candidate is qualified should be specified in the nomination letter. A summary of the candidate's qualifications should be included with the nomination, including (where applicable) current or former service on Federal advisory boards and Federal employment. Besides participation at meetings, it is desired that members be either developing or researching topics of potential interest, reading Baldrige applications, and so forth, in furtherance of their Panel duties.

3. The Department of Commerce is committed to equal opportunity in the workplace and seeks a broad-based and diverse Panel membership.

Manufacturing Extension Partnership (MEP) Advisory Board

Address: Please submit nominations to Ms. Cheryl Gendron, NIST, 100 Bureau Drive, Mail Stop 4800, Gaithersburg, MD 20899-4800. Nominations may also be submitted via email at Cheryl.Gendron@nist.gov. Additional information regarding MEP, including its charter, may be found on its electronic home page at http://www.nist.gov/mep/advisory-board.cfm.

Contact Information: Ms. Cheryl Gendron, Designated Federal Officer, NIST, 100 Bureau Drive, Mail Stop 4800, Gaithersburg, MD 20899-4800; telephone 301-975-4919, fax 301-963-6556; or via email at Cheryl.Gendron@nist.gov.

Committee Information

The MEP Advisory Board (Board) is authorized under section 501 of the American Innovation and Competitiveness Act (Pub. L. 114-329); codified at 15 U.S.C. 278k(m), as amended, in accordance with the provisions of the Federal Advisory Committee Act, 5 U.S.C. 1001 et seq.

Objectives and Duties

1. The Board will provide advice on MEP activities, plans, and policies.

2. The Board will assess the soundness of MEP plans and strategies.

3. The Board will assess current performance against MEP program plans.

4. The Board will function solely in an advisory capacity, and in accordance with the provisions of the Federal Advisory Committee Act, 5 U.S.C. 1001 et seq.

5. The Board shall transmit through the Director of NIST an annual report to the Secretary of Commerce for transmittal to Congress not later than 30 days after the submission to Congress of the President's annual budget request each year. The report shall address the status of the MEP program.

Membership

1. The Board shall consist of not fewer than 10 members, appointed by the Director of NIST and broadly representative of stakeholders. At least 2 members shall be employed by or on an advisory board for a MEP Center, at least 5 members shall be from U.S. small businesses in the manufacturing sector, and at least 1 member shall represent a community college. No member shall be an employee of the Federal Government.

2. The Director of NIST shall appoint the members of the Board. Members shall be selected on a clear, standardized basis, in accordance with applicable Department of Commerce guidance. Board members serve at the discretion of the Director of NIST.

3. The term of office of each member of the Board shall be three years, except that vacancy appointments shall be for the remainder of the unexpired term of the vacancy. Any person who has completed two consecutive full terms of service on the Board shall thereafter be ineligible for appointment during the one-year period following the expiration of the second term.

Miscellaneous

1. Members of the Board will not be compensated for their services but will, upon request, be allowed travel and per diem expenses as authorized by 5 U.S.C. 5701 et seq., while attending meetings of the Board or subcommittees thereof, or while otherwise performing duties at the request of the Chair, while away from their homes or regular places of business.

2. The Board will meet at least biannually. Additional meetings may be called by the Director of NIST or the Designated Federal Officer (DFO).

3. Committee meetings are open to the public.

Nomination Information

1. Nominations are being accepted in all categories described above.

2. Nominees should have specific experience related to manufacturing and industrial extension services. Letters of nomination should include the category of membership for which the candidate is applying and a summary of the candidate's qualifications for that specific category.

3. Nominations that are received and meet the requirements will be kept on file to be reviewed as Board vacancies occur.

4. The Department of Commerce is committed to equal opportunity in the workplace and seeks a broad-based and diverse MEP Advisory Board membership.

National Artificial Intelligence Advisory Committee (NAIAC)

Address: Please submit nominations to Melissa Banner, Designated Federal Officer, National Institute of Standards and Technology, 100 Bureau Drive, MS 1000, Gaithersburg, MD 20899. Nominations may also be submitted via email to melissa.banner@nist.gov.

Contact Information: Elham Tabassi, Associate Director, Information Technology Laboratory, National Institute of Standards and Technology, 100 Bureau Drive, MS 8940, Gaithersburg, MD 20899. Her email is elham.tabassi@nist.gov.

Committee Information

The Secretary of Commerce established the National Artificial Intelligence Advisory Committee (the NAIAC or the Committee) pursuant to section 5104 of the National Artificial Intelligence Initiative Act of 2020 (Pub. L. 116-283), hereinafter referred to as the Act, and the Federal Advisory Committee Act, 5 U.S.C. 1001 et seq.

The Committee shall provide advice to the President and the National Artificial Intelligence Initiative Office on matters related to the National Artificial Intelligence Initiative (Initiative). The purposes of the Initiative are: (1) ensuring continued United States leadership in artificial intelligence research and development; (2) leading the world in the development and use of trustworthy artificial intelligence systems in the public and private sectors; (3) preparing the present and future United States workforce for the integration of artificial intelligence systems across all sectors of the economy and society; and (4) coordinating ongoing artificial intelligence research, development, and demonstration activities among the civilian agencies, the Department of Defense, and the Intelligence Community to ensure that each informs the work of the others.

Objectives and Duties

The Committee shall advise the President and the Initiative Office on matters related to the Initiative, including recommendations related to:

a. The current state of United States competitiveness and leadership in artificial intelligence, including the scope and scale of United States investments in artificial intelligence research and development in the international context;

b. The progress made in implementing the Initiative, including a review of the degree to which the Initiative has achieved the goals according to the metrics established by the Interagency Committee under section 5103(d)(2) of the Act;

c. The state of the science around artificial intelligence, including progress toward artificial general intelligence;

d. Issues related to artificial intelligence and the United States workforce, including matters relating to the potential for using artificial intelligence for workforce training, the possible consequences of technological displacement, and supporting workforce training opportunities for occupations that lead to economic self-sufficiency for individuals with barriers to employment and historically underrepresented populations, including minorities, Indians (as defined in 25 U.S.C. 5304), low-income populations, and persons with disabilities;

e. How to leverage the resources of the Initiative to streamline and enhance operations in various areas of government operations, including health care, cybersecurity, infrastructure, and disaster recovery;

f. The need to update the Initiative;

g. The balance of activities and funding across the Initiative;

h. Whether the strategic plan developed or updated by the Interagency Committee established under section 5103(d)(2) of the Act is helping to maintain United States leadership in artificial intelligence;

i. The management, coordination, and activities of the Initiative;

j. Whether ethical, legal, safety, security, and other appropriate societal issues are adequately addressed by the Initiative;

k. Opportunities for international cooperation with strategic allies on artificial intelligence research activities, standards development, and the compatibility of international regulations;

l. Accountability and legal rights, including matters relating to oversight of artificial intelligence systems using regulatory and nonregulatory approaches, the responsibility for any violations of existing laws by an artificial intelligence system, and ways to balance advancing innovation while protecting individual rights; and

m. How artificial intelligence can enhance opportunities for diverse geographic regions of the United States, including urban, Tribal, and rural communities.

In addition, pursuant to section 5104(e) of the Act, the Committee's Chairperson shall establish a subcommittee that shall provide advice to the President, through the Committee, on matters related to the development of AI relating to law enforcement, including advice on the following:

A. Bias, including whether the use of facial recognition by government authorities, including law enforcement agencies, is taking into account ethical considerations and addressing whether such use should be subject to additional oversight, controls, and limitations.

B. Security of data, including law enforcement's access to data and the security parameters for that data.

C. Adoptability, including methods to allow the United States Government and industry to take advantage of artificial intelligence systems for security or law enforcement purposes while at the same time ensuring the potential abuse of such technologies is sufficiently mitigated.

D. Legal standards, including those designed to ensure the use of artificial intelligence systems are consistent with the privacy rights, civil rights and civil liberties, and disability rights issues raised by the use of these technologies.

Membership

Members of the Committee shall be appointed by the Secretary of Commerce. The Committee shall consist of not less than 9 members, who represent broad and interdisciplinary expertise and perspectives, including from academic institutions, companies across diverse sectors, nonprofit and civil society entities, including civil rights and disability rights organizations, and Federal laboratories, who represent geographic diversity, and who are qualified to provide advice and information on science and technology research, development, ethics, standards, education, technology transfer, commercial application, security, and economic competitiveness related to artificial intelligence.

In selecting the members of the Committee, the Secretary of Commerce shall seek and give consideration to recommendations from Congress, industry, nonprofit organizations, the scientific community (including the National Academies of Sciences, Engineering, and Medicine, scientific professional societies, and academic institutions), the defense and law enforcement communities, and other appropriate organizations.

Miscellaneous

Meetings will be conducted at least twice each year.

1. Generally, Committee meetings are open to the public.

2. Meeting may be held in-person in selected locations across the country and/or virtually.

Nomination Information

1. Nominations are sought from all fields, sectors, and perspectives described above.

2. Nominees should represent broad and interdisciplinary expertise and perspectives, including from academic institutions, companies across diverse sectors, nonprofit and civil society entities, including civil rights and disability rights organizations, and Federal laboratories, who represent geographic diversity, and who are qualified to provide advice and information on science and technology research, development, ethics, standards, education, technology transfer, commercial application, security, and economic competitiveness related to artificial intelligence. The field of eminence for which the candidate is qualified should be specified in the nomination letter. A summary of the candidate's qualifications should be included with the nomination, including (where applicable) current or former service on Federal advisory boards and Federal employment. In addition, each nomination letter should state whether the candidate seeks to serve on the Committee, the Subcommittee, or both; and that the candidate acknowledges the responsibilities of serving and will actively participate in good faith in the tasks of the Committee or Subcommittee, as appropriate. Third-party nomination letters should state that the candidate agrees to the nomination.

3. The Department of Commerce seeks a broad-based and diverse Committee and subcommittee membership.

National Construction Safety Team (NCST) Advisory Committee

Address: Please submit nominations to Benjamin Davis, Designated Federal Officer, NIST, 100 Bureau Drive, Mail Stop 8615, Gaithersburg, MD 20899-8604 or via email at Benjamin.Davis@nist.gov. Additional information regarding the NCST Advisory Committee, including its charter, may be found on its electronic home page at https://www.nist.gov/el/disaster-resilience/disaster-and-failure-studies/national-construction-safety-team-ncst/advisory.

Contact Information: Maria Dillard, Acting Director, Disaster and Failure Studies Program, NIST, 100 Bureau Drive, Mail Stop 8615, Gaithersburg, MD 20899-8604, telephone 301-975-4953; or via email at Maria.Dillard@nist.gov.

Committee Information

The NCST Advisory Committee (Committee) was established in accordance with the National Construction Safety Team Act, Public Law 107-231, and the Federal Advisory Committee Act, 5 U.S.C. 1001 et seq.

Objectives and Duties

1. The Committee shall advise the Director of NIST on carrying out the National Construction Safety Team Act (Act), review the procedures developed under section 2(c)(1) of the Act, and review the reports issued under section 8 of the Act.

2. The Committee functions solely as an advisory body, in accordance with the provisions of the Federal Advisory Committee Act.

3. The Committee shall report to the Director of NIST.

4. On January 1 of each year, the Committee shall transmit to the Committee on Science, Space, and Technology of the House of Representatives and to the Committee on Commerce, Science, and Transportation of the Senate a report that includes: (1) an evaluation of National Construction Safety Team (Team) activities, along with recommendations to improve the operation and effectiveness of Teams, and (2) an assessment of the implementation of the recommendations of Teams and of the Committee.

Membership

1. The Committee shall consist of no less than 4 and no more than 12 members. Members shall reflect the wide diversity of technical disciplines and competencies involved in the National Construction Safety Teams investigations. Members shall be selected on the basis of established records of distinguished service in their professional community and their knowledge of issues affecting the National Construction Safety Teams.

2. The Director of NIST shall appoint the members of the Committee, and they will be selected on a clear, standardized basis, in accordance with applicable Department of Commerce guidance.

Miscellaneous

1. Members of the Committee shall not be compensated for their services but may, upon request, be allowed travel and per diem expenses in accordance with 5 U.S.C. 5703.

2. Members of the Committee shall serve as Special Government Employees (SGEs), will be subject to the ethics standards applicable to SGEs, and are required to file an annual Executive Branch Confidential Financial Disclosure Report.

3. The Committee shall meet at least once per year. Additional meetings may be called whenever requested by the NIST Director or the Designated Federal Officer (DFO); such meetings may be in the form of telephone conference calls and/or videoconferences.

Nomination Information

1. Nominations are sought from industry and other communities having an interest in the National Construction Safety Teams investigations.

2. Nominees should have established records of distinguished service. The field of expertise that the candidate represents should be specified in the nomination letter. Nominations for a particular field should come from organizations or individuals within that field. A summary of the candidate's qualifications should be included with the nomination, including (where applicable) current or former service on Federal advisory boards and Federal employment.

3. The Department of Commerce is committed to equal opportunity in the workplace and seeks a broad-based and diverse Committee membership.

National Technical Information Service Advisory Board (NTIS)

Address: Please submit nominations to Elizabeth Shaw, Designated Federal Officer, NTIS, via email at Elizabeth.Shaw@ntis.gov and Steven Holland, Alternate Designated Federal Officer, NTIS, via email at Steven.Holland@ntis.gov. Additional information regarding the NTIS, including its charter, current membership list, and past reports may be found on its electronic homepage at https://www.ntis.gov/about/advisorybd/index/xhtml.

Contact Information: Elizabeth Shaw, Designated Federal Officer, NTIS, via email at Elizabeth.Shaw@ntis.gov and Steven Holland, Alternate Designated Federal Officer, NTIS, via email at Steven.Holland@ntis.gov.

Committee Information

The National Technical Information Service Advisory Board (NTIS or Advisory Board) was established in accordance with section 3704b(c) of Title 15 of the United States Code, and the Federal Advisory Committee Act, 5 U.S.C. 1001 et seq.

Objectives and Duties

1. The Advisory Board shall review and make recommendations to improve NTIS programs, operations, and general policies in support of NTIS' mission to advance Federal data priorities, promote economic growth, and enable operational excellence by providing innovative data services to Federal agencies through joint venture partnerships with the private sector.

2. The Advisory Board shall act in the public interest to:

a. Provide advice on the optima data services business and operating model to best implement NTIS' joint venture authority.

b. Provide advice on the means, including infrastructure and process improvements, to make Federal data easier to find, access, analyze, and combine.

c. Assess progress in evolving NTIS programs toward a focus on Federal data priorities.

d. Assess the use of merit-based criteria and processes to plan, conduct, and oversee programs and projects, including the selection of joint venture partners.

e. Assess policies in connection with fees and charges for NTIS services in order for the agency to operate on a substantially self-sustaining basis, as required by law.

f. Assess organizational capabilities required to carry out NTIS's mission, including capabilities in data science and for operational management of its project portfolio.

3. The Committee will function solely as an advisory body, in accordance with the provisions of the Federal Advisory Committee Act, 5 U.S.C. 1001 et seq.

4. The Committee shall report to the Secretary of Commerce and to the Under Secretary of Commerce for Standards and Technology through the Director of NTIS.

Membership

a. The NTIS Advisory Board shall be composed of a Chairperson appointed by the Secretary and four other members appointed by the Secretary. In the event of a vacancy in the Chairperson position, the NTIS Director may designate a member to serve as acting Chairperson until a Chairperson is appointed by the Secretary.

b. Members shall be selected solely on the basis of established records of distinguished service and objectivity; shall have recognized expertise in data collection, compilation, analysis, use, and dissemination, as well as data science, information technology, cybersecurity, and privacy. Members will be selected from the business, academic, non-profit, and state and local government communities. Reasonable efforts will be made to ensure members represent the entire spectrum of Federal data interests including demographic, economic, trade, health, scientific, patent, environmental, geospatial, cybersecurity, and transactional data. No Federal Government employee shall serve as a member of the Board.

c. The term of office of each member of the Board shall be three years, except that vacancy appointments shall be for the remainder of the unexpired term of the vacancy. All appointments shall automatically terminate if the charter is terminated or not renewed. All members serve at the pleasure of the Secretary.

d. Any person who has completed two consecutive full terms of service on the Board shall be ineligible for appointment for a third term during the one-year period following the expiration of the second term.

e. Members shall serve as Special Government Employees (SGEs) and will be subject to all ethical standards and rules applicable to SGEs.

2. Members shall not reference or otherwise utilize their membership on the Board in connection with public statements made in their personal capacities without a disclaimer that the views expressed are their own and do not represent the views of the Board, the National Technical Information Service, or the Department of Commerce.

3. Subcommittees: NTIS may establish such subcommittees of its members as may be necessary, pursuant to the provisions of FACA, the FACA implementing regulations, and applicable Department of Commerce guidance. Subcommittees will report to the NTIS Advisory Board and may not provide advice or work products directly to the Department of Commerce or NTIS.

Miscellaneous

1. The Board shall meet at the call of the Secretary or the Secretary's designee, but not less often than once every six months.

2. Generally, Committee meetings are open to the public.

Nomination Information

1. Nominations are sought from all fields described above.

2. Nominees should have established records of distinguished service and shall be eminent in fields. The category (field of eminence) for which the candidate is qualified should be specified in the nomination letter. A summary of the candidate's qualifications should be included with the nomination, including (where applicable) current or former service on Federal advisory boards and Federal employment.

3. The Department of Commerce is committed to equal opportunity in the workplace and seeks a broad-based and diverse NTIS membership.

Visiting Committee on Advanced Technology (VCAT)

Address: Please submit nominations to Stephanie Shaw, Designated Federal Officer, VCAT, NIST, 100 Bureau Drive, Mail Stop 1060, Gaithersburg, MD 20899-1060. Nominations may also be submitted via email at Stephanie.Shaw@nist.gov. Additional information regarding the VCAT, including its charter, current membership list, and past reports may be found on its electronic homepage at http://www.nist.gov/director/vcat/.

Contact Information: Stephanie Shaw, Designated Federal Officer, VCAT, NIST, 100 Bureau Drive, Mail Stop 1060, Gaithersburg, MD 20899-1060, telephone 301-975-2667 or via email at Stephanie.Shaw@nist.gov.

Committee Information

The VCAT (Committee) was established in accordance with 15 U.S.C. 278 and the Federal Advisory Committee Act, 5 U.S.C. 1001 et seq.

Objectives and Duties

5. The Committee shall review and make recommendations regarding general policy for NIST, its organization, its budget, and its programs, within the framework of applicable national policies as set forth by the President and the Congress. 15 U.S.C. 278(a).

6. The Committee shall provide an annual report, through the Director of NIST, to the Secretary of Commerce for submission to the Congress not later than 30 days after the submittal to Congress of the President's annual budget request in each year. Such report shall deal essentially, though not necessarily exclusively, with policy issues or matters which affect NIST, or with which the Committee in its official role as the private sector policy adviser of NIST is concerned. Each such report shall identify areas of research and research techniques of the Institute of potential importance to the long-term competitiveness of United States industry, in which the Institute possesses special competence, which could be used to assist United States enterprises and Untied States industrial joint research and development ventures. 15 U.S.C. 278(h)(1). The Committee shall submit, through the Director of NIST, to the Secretary and the Congress such additional reports on specific policy matters as it deems appropriate. 15 U.S.C. 278(h)(2).

7. The Committee will function solely as an advisory body, in accordance with the provisions of the Federal Advisory Committee Act, as amended, 5 U.S.C. App.

8. The Committee shall report to the Director of NIST.

Membership

4. The Director of NIST shall appoint the members of the Committee. Members shall be selected on a clear, standardized basis, in accordance with applicable Department of Commerce guidance. 15 U.S.C. 278(a). Members shall be selected solely on the basis of established records of distinguished service; shall provide representation of a cross-section of traditional and emerging United States industries; and shall be eminent in fields such as business, research, new product development, engineering, labor, education, management consulting, environment, and international relations. No employee of the Federal Government shall serve as a member of the Committee. 15 U.S.C. 278(b).

5. Members of the Committee shall serve as Special Government Employees (SGEs) and will be subject to the ethics standards applicable to SGEs.

6. The Committee shall consist of not fewer than nine members appointed by the Director of NIST, a majority of whom shall be from United States industry. 15 U.S.C. 278(a). The term of office of each member of the Committee shall be three years, except that vacancy appointments shall be for the remainder of the unexpired term of the vacancy. 15 U.S.C. 278(c)(1). Members shall serve at the discretion of the Director of NIST.

7. Any person who has completed two consecutive full terms of service on the Committee shall be ineligible for appointment for a third term during the one-year period following the expiration of the second term. 15 U.S.C. 278(c)(1).

8. Pursuant to 15 U.S.C. 278(f), the Committee chairperson and vice chairperson shall be elected by the members of the Committee at each annual meeting occurring in an even-numbered year. The vice chairperson shall perform the duties of the chairperson in his or her absence. In case a vacancy occurs in the position of the chairperson or vice chairperson, the Committee shall elect a member to fill such vacancy.

9. Members of the Committee will not be compensated for their services, but will, upon request, be allowed travel expenses in accordance with 5 U.S.C. 5701 et seq., while attending meetings of the Committee or of its subcommittees, or while otherwise performing duties at the request of the chairperson, while away from their homes or a regular place of business.

10. Pursuant to 15 U.S.C. 278(g), the Committee may, with the concurrence of a majority of its members, permit the appointment of a staff consisting of not more than four professional staff members and such clerical staff members as may be necessary. Such staff members shall be appointed by the Director after consultation with the chairperson of the Committee and assigned at the direction of the Committee.

11. Subcommittees: Pursuant to 15 U.S.C. 278(e), the Committee shall have an executive committee, and may delegate to it such powers and functions of the Committee as it deems appropriate. The Committee and/or the Director of NIST may establish such other subcommittees, task forces, and working groups consisting of members from the parent Committee as may be necessary, subject to the provisions of FACA, the FACA implementing regulations, and applicable Department of Commerce guidance. Subcommittees must report back to the Committee and any recommendations based on their work will be deliberated and agreed upon by the Committee prior to dissemination to NIST.

Miscellaneous

3. Meetings of the VCAT usually take place at the NIST headquarters in Gaithersburg, Maryland. The Committee will meet at least twice each year at the call of the chairperson or whenever one-third of the members so request in writing. The Committee shall not act in the absence of a quorum, which shall consist of a majority of the members of the Committee not having a conflict of interest in the matter being considered by the Committee. 15 U.S.C. 278(d).

4. Generally, Committee meetings are open to the public.

Nomination Information

4. Nominations are sought from all fields described above.

5. Nominees should have established records of distinguished service and shall be eminent in fields such as business, research, new product development, engineering, labor, education, management consulting, environment and international relations. The category (field of eminence) for which the candidate is qualified should be specified in the nomination letter. A summary of the candidate's qualifications should be included with the nomination, including (where applicable) current or former service on Federal advisory boards and Federal employment. In addition, each nomination letter should state that the candidate agrees to the nomination, acknowledges the responsibilities of serving on the VCAT, and will actively participate in good faith in the tasks of the VCAT.

6. The Department of Commerce is committed to equal opportunity in the workplace and seeks a broad-based and diverse VCAT membership.

Alicia Chambers,
NIST Executive Secretariat.

[FR Doc. 2023-09421 Filed 5-3-23; 8:45 am]

BILLING CODE 3510-13-P